DEPARTMENT OF TRANSPORTATION

Federal Aviation Administration

14 CFR Part 71

[Docket No. FAA-2006-24450; Airspace Docket No. 06-AGL-04]

Modification of Class E Airspace; Chamberlain, SD

AGENCY: Federal Aviation Administration (FAA), DOT.

ACTION: Final rule.

SUMMARY: This action modifies Class E airspace at Chamberlain, SD. Standard Instrument Approach Procedures have been developed for Chamberlain Municipal Airport, Chamberlain, SD. Controlled airspace extending upward from 700 feet or more above the surface of the earth is needed to contain aircraft executing these approaches. This action increases the area of the existing controlled airspace for Chamberlain, SD.

EFFECTIVE DATE: 0901 UTC, January 18, 2007. The Director of the Federal Register approves this incorporation by reference action under 7 CFR Part 51, subject to the annual version of FAA Order 7400.9 and publication of conforming amendments.

FOR FURTHER INFORMATION CONTACT: Steve Davis, FAA, Terminal Operations, Central Service Office, Airspace and Procedures Branch, AGL-530, Federal Aviation Administration, 2300 East Devon Avenue, Des Plaines, Illinois 60018, telephone (847) 294-7131.

SUPPLEMENTARY INFORMATION:

History

On Wednesday, June 28, 2006, the FAA proposed to amend 14 CFR part 71 to modify Class E airspace at Chamberlain, SD (71 FR 36725). The proposal was to modify controlled airspace extending upward from 700 feet or more above the surface of the earth to contain Instrument Flight Rules operations in controlled airspace during portions of the terminal operation and while transiting between the enroute and terminal environments.

Interested parties were invited to participate in this rulemaking proceeding by submitting written comments on the proposal to the FAA. No comments objecting to the proposal were received. Class E airspace designations for airspace areas extending upward from 700 feet or more above the surface of the earth are published in paragraph 6005 of FAA Order 7400.9P dated September 1, 2006, and effective September 15, 2006, which is incorporated by reference in 14 CFR 71.1. The Class E airspace designation listed in this document will be published subsequently in the Order.

The Rule

This amendment to 14 CFR part 71 modifies Class E airspace at Chamberlain, SD, to accommodate aircraft executing instrument flight procedures into and out of Chamberlain Municipal Airport. The area will be depicted on appropriate aeronautical charts.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follow:

Authority: 49 U.S.C. 106(g), 40103, 40113, 40120; E.O. 10854, 24 FR 95664, 3 CFR 1959-1963 Comp., p. 389.

§ 71.1 [Amended]

2. The incorporation by reference in 14 CFR 71.1 of the Federal Aviation Administration Order 7400.9P, Airspace Designations and Reporting Points, dated September 1, 2006, and effective September 15, 2006, is amended as follows:

* * * * *

Paragraph 6005 Class E airspace areas extending upward from 700 feet or more above the surface of the earth.

* * * * *

AGL SD E5 Chamberlain, SD [Revised]

Chamberlain Municipal Airport, SD

(Lat. 43°45′58″ N., long. 99°19′17″ W.)

That airspace extending upward from 700 feet above the surface within a 6.4-mile radius of Chamberlain Municipal Airport.

* * * * *

Issued in Fort Worth, Texas on September 14, 2006.
Donald R. Smith,
Manager, System Support Group, ATO Central Service Area.

[FR Doc. 06-8312 Filed 9-28-06; 8:45 am]

BILLING CODE 4910-13-M